SUSQUEHANNA RIVER BASIN COMMISSION

Commission Meeting

AGENCY: Susquehanna River Basin Commission.

ACTION: Notice.

SUMMARY: The Susquehanna River Basin Commission will hold its regular business meeting on September 20, 2012, in Harrisburg, Pennsylvania. Details concerning the matters to be addressed at the business meeting are contained in the Supplementary Information section of this notice.

DATES: September 20, 2012, at 8:30 a.m.

ADDRESSES: North Office Building, Hearing Room 1 (Ground Level), North Street (at Commonwealth Avenue), Harrisburg, Pa. 17120.

FOR FURTHER INFORMATION CONTACT: Richard A. Cairo, General Counsel, telephone: (717) 238-0423, ext. 306; fax: (717) 238-2436.

Opportunity To Appear and Comment

Interested parties are invited to attend the business meeting and encouraged to review the Commission's Public Meeting Rules of Conduct, which are posted on the Commission's Web site, www.srbc.net. As identified in the public hearing notice referenced below, written comments on the Regulatory Program projects that were the subject of the public hearing, and are listed for action at the business meeting, are subject to a comment deadline of September 4, 2012. Written comments pertaining to any other matters listed for action at the business meeting may be mailed to the Susquehanna River Basin Commission, 1721 North Front Street, Harrisburg, Pennsylvania 17102-2391, or submitted electronically through http://www.srbc.net/pubinfo/publicparticipation.htm. Any such comments mailed or electronically submitted must be received by the Commission on or before September 4, 2012, to be considered.

SUPPLEMENTARY INFORMATION: The business meeting will include actions on the following items: (1) Ratification/approval of agreements; (2) partial waiver of application fees for withdrawn applications; (3) conditional transfer extension request of Talon Holdings, LLC related to the Hawk Valley Gold Course, Lancaster County, Pa.; (4) issuance of corrective docket to Nature's Way Purewater Systems, Inc. (Covington Springs Borehole), Dupont Borough, Luzerne County, Pa.; and (5) Regulatory Program projects. Projects listed for Commission action are those that were the subject of a public hearing conducted by the Commission on August 23, 2012, and identified in the notice for such hearing, which was published in 77 FR 44703, July 30, 2012.

Authority: Pub. L. 91-575, 84 Stat. 1509 et seq., 18 CFR parts 806, 807, and 808.

Dated: August 17, 2012.
Thomas W. Beauduy,
Deputy Executive Director.

[FR Doc. 2012-21125 Filed 8-27-12; 8:45 am]

BILLING CODE 7040-01-P